DEPARTMENT OF HOMELAND SECURITY

[Docket No. DHS-2010-0025]

National Protection and Programs Directorate; National Infrastructure Advisory Council

AGENCY: National Protection and Programs Directorate, DHS.

ACTION: Committee Management; Notice of Federal Advisory Council Meeting.

SUMMARY: The National Infrastructure Advisory Council (NIAC) will meet on Tuesday, April 13, 2010, at the National Press Club's Ballroom, 529 14th Street, NW., Washington, DC 20045.

DATES: The National Infrastructure Advisory Council will meet Tuesday, April 13, 2010 from 1:30 p.m. to 4:30 p.m. The meeting may close early if the committee has completed its business.

For additional information, please consult the NIAC Web site, http://www.dhs.gov/niac, or contact the NIAC Secretariat by phone at 703-235-2888 or by e-mail at NIAC@dhs.gov.

ADDRESSES: The meeting will be held at the National Press Club's Ballroom, 529 14th Street, NW., Washington, DC 20045. While we will be unable to accommodate oral comments from the public, written comments may be sent to Nancy J. Wong, Department of Homeland Security, National Protection and Programs Directorate, 245 Murray Lane, SW., Mail Stop 0607, Arlington, VA 20598-0607. Written comments should reach the contact person listed no later than March 30, 2010. Comments must be identified by DHS-2010-0025 and may be submitted by one of the following methods:

• Federal eRulemaking Portal: http://www.regulations.gov. Follow the instructions for submitting comments.

• E-mail: NIAC@dhs.gov. Include the docket number in the subject line of the message.

• Fax: 703-603-5098.

• Mail: Nancy J. Wong, Department of Homeland Security, National Protection and Programs Directorate, 245 Murray Lane, SW., Mail Stop 0607, Arlington, VA 20598-0607.

Instructions: All submissions received must include the words “Department of Homeland Security” and the docket number for this action. Comments received will be posted without alteration at http://www.regulations.gov, including any personal information provided.

Docket: For access to the docket to read background documents or comments received by the NIAC, go to http://www.regulations.gov.

FOR FURTHER INFORMATION CONTACT: Nancy J. Wong, National Protection and Programs Directorate, 245 Murray Lane, SW., Mail Stop 0607, Arlington, VA, 20598-0607; telephone 703-235-2888.

SUPPLEMENTARY INFORMATION: Notice of this meeting is given under the Federal Advisory Committee Act, 5 U.S.C. App. (Pub. L. 92-463). The NIAC shall provide the President through the Secretary of Homeland Security with advice on the security of the critical infrastructure sectors and their information systems.

The NIAC will meet to address issues relevant to the protection of critical infrastructure as directed by the President. The April 13, 2010, meeting will receive updates on the progress of two National Infrastructure Advisory Council working groups.

The Meeting Agenda is as Follows:

I. Opening of Meeting

II. Roll Call of Members

III. Opening Remarks and Introductions

IV. Approval of January 2010 Minutes

V. Working Group Status: A Framework for Establishing Critical Infrastructure Resilience Goals

VI. Working Group Status: Optimization of Resources for Mitigating Infrastructure Disruptions

VII. New Business

VIII. Closing Remarks

IX. Adjournment

Procedural

While this meeting is open to the public, participation in the National Infrastructure Advisory Council deliberations is limited to committee members, Department of Homeland Security officials, and persons invited to attend the meeting for special presentations.

Information on Services for Individuals With Disabilities

For information on facilities or services for individuals with disabilities or to request special assistance at the meeting, contact the NIAC Secretariat at 703-235-2888 as soon as possible.

Signed: March 19, 2010.
Renee W. Murphy,
Assistant Designated Federal Officer, National Infrastructure Advisory Council.

[FR Doc. 2010-6633 Filed 3-24-10; 8:45 am]

BILLING CODE 9110-9P-P